DEPARTMENT OF THE INTERIOR

Fish and Wildlife Service

Notice of Receipt of Applications for Permit

Endangered Species

The following applicants have applied for a permit to conduct certain activities with endangered species. This notice is provided pursuant to Section 10(c) of the Endangered Species Act of 1973, as amended (16 U.S.C. 1531, et seq.):

Applicant: Yale Institute for Biospheric Studies, New Haven, CT, PRT-031178

The applicant requests a permit to import biological samples of the Komodo monitor (Varanus komodoensis) taken from specimens in the wild in Indonesia for the purpose of enhancement of the survival of the species through studies of population genetics. This notice covers activities under this permit for a period of five years. Permit subject to annual renewal.

Applicant: Dallas Zoo, Dallas, TX, PRT-031258.

The applicant requests a permit to import blood samples from wild and captive held Ocolet (Leopardus pardalis) taken from specimens in Mexico for the purpose of enhancement through scientific research.

Applicant: Daniel J. Will, Platteville, CO, PRT-031295.

The applicant requests a permit to import the sport-hunted trophy of one male bontebok (Damaliscus pygargus dorcas) culled from a captive herd maintained under the management program of the Republic of South Africa, for the purpose of enhancement of the survival of the species.

Applicant: John Lochow, Far Hills, NJ, PRT-031292.

The applicant requests a permit to import the sport-hunted trophy of one male bontebok (Damaliscus pygargus dorcas) culled from a captive herd maintained under the management program of the Republic of South Africa, for the purpose of enhancement of the survival of the species.

Applicant: Kathryn J. Will, Platteville, CO, PRT-031300.

The applicant requests a permit to import the sport-hunted trophy of one male bontebok (Damaliscus pygargus dorcas) culled from a captive herd maintained under the management program of the Republic of South Africa, for the purpose of enhancement of the survival of the species.

Applicant: Steve Mc Manus, Victoria, TX, PRT-031355.

The applicant requests a permit to import the sport-hunted trophy of one male bontebok (Damaliscus pygargus dorcas) culled from a captive herd maintained under the management program of the Republic of South Africa, for the purpose of enhancement of the survival of the species.

Applicant: Hugh Benford Jacks, Shoal Creek, AL, PRT-031358.

The applicant requests a permit to import the sport-hunted trophy of one male bontebok (Damaliscus pygargus dorcas) culled from a captive herd maintained under the management program of the Republic of South Africa, for the purpose of enhancement of the survival of the species.

Applicant: James Albert Bibler, Russellville, AR, PRT-031386.

The applicant requests a permit to import the sport-hunted trophy of one male bontebok (Damaliscus pygargus dorcas) culled from a captive herd maintained under the management program of the Republic of South Africa, for the purpose of enhancement of the survival of the species.

Applicant: Thomas Marshall Hahn Jr., Blacksburg, VA, PRT-031457.

The applicant requests a permit to import the sport-hunted trophy of one male bontebok (Damaliscus pygargus dorcas) culled from a captive herd maintained under the management program of the Republic of South Africa, for the purpose of enhancement of the survival of the species.

Applicant: International Wildlife Veterinary Services, Laramie, WY, PRT-797485. The applicant requests a permit to import biological samples taken from free-ranging black rhinoceros (Diceros bicornis) in Kenya, South Africa, and Zimbabwe, for scientific research. This notification covers activities conducted by the applicant over the next 5 years.

Applicant: San Francisco Zoo, San Francisco, CA, PRT-030603.

The applicant requests a permit to import one male captive-born Diana monkey (Cercopithecus diana) from the Royal Zoological Society of Scotland/Edinburgh Zoo, Edinburgh, Scotland for the purpose of enhancement of the survival of the species through captive propagation.

Marine Mammal

The public is invited to comment on the following application for a permit to conduct certain activities with marine mammals. The application was submitted to satisfy requirements of the Marine Mammal Protection Act of 1972, as amended (16 U.S.C. 1361 et seq.) and the regulations governing marine mammals (50 CFR 18).

Applicant: Larry Masserant, Newport, MI, PRT-031377.

The applicant requests a permit to import a polar bear (Ursus maritimus) sport-hunted from the Lancaster Sound polar bear population, Northwest Territories, Canada for personal use.

Written data or comments should be submitted to the Director, U.S. Fish and Wildlife Service, Office of Management Authority, 4401 North Fairfax Drive, Room 700, Arlington, Virginia 22203 and must be received by the Director within 30 days of the date of this publication.

Documents and other information submitted with these applications are available for review, subject to the requirements of the Privacy Act and Freedom of Information Act, by any party who submits a written request for a copy of such documents to the following office within 30 days of the date of publication of this notice: U.S. Fish and Wildlife Service, Office of Management Authority, 4401 North Fairfax Drive, Room 700, Arlington, Virginia 22203. Phone: (703/358-2104); FAX: (703/358-2281).

Dated: August 7, 2000.
Charlie Chandler,
Chief, Branch of Permits, Office of Management Authority.

[FR Doc. 00-20236 Filed 8-9-00; 8:45 am]

BILLING CODE 4310-55-P